NATIONAL SCIENCE FOUNDATION

Special Emphasis Panel in Graduate Education; Notice of Meeting

In accordance with the Federal Advisory Committee Act (Pub. L. 92-463, as amended), the National Science Foundation announces the following meeting:

Name: Special Emphasis Panel in Graduate Education (57).

Date/Times: February 15 and 16, 2001; 8 a.m. to 5 p.m.

Place: National Science Foundation, 4201 Wilson Boulevard, Arlington, VA.

Type of Meeting: Closed.

Contract Persons: Dr. Sonia Ortega, Mrs. Carolyn L. Piper and Mrs. Arneeta Speight, Division of Graduate Education, National Science Foundation, 4201 Wilson Blvd., Room 907N, Arlington, VA 22230. (703) 292-8697.

Purpose of Meeting: To provide advice and recommendations concerning proposals submitted to NSF for financial support.

Agenda: To review and evaluate proposals as part of the selection process for awards.

Reason for Closing: The applications being reviewed include information of a proprietary or confidential nature, including technical information, financial data, such as salaries, and personal information concerning individuals associated with the proposals. These matters are exempt under 5 U.S.C. 552b(c), (4) and (6) of the Government in the Sunshine Act.

Dated: January 16, 2001.
Karen J. York,
Committee Management Officer.

[FR Doc. 01-1939 Filed 1-22-01; 8:45 am]

BILLING CODE 7555-01-M